FEDERAL COMMUNICATIONS COMMISSION

[DA 04-3840]

The Federal Communications Commission's Form 501 Approved by the Office of Management and Budget (OMB)

AGENCY: Federal Communications Commission.

ACTION: Notice.

SUMMARY: In this document, the Office of Management and Budget issued a Notice of Action approving the revised Federal Communications Commission Form 501, Slamming Complaint Form. The form was revised to ensure that consumers have to file a slamming complaint only once, rather than having to seek multiple avenues of redress.

DATES: Effective November 29, 2004.

FOR FURTHER INFORMATION CONTACT: David Marks or Kelli Farmer of the Consumer & Governmental Affairs Bureau at (202) 418-2512 (voice).

SUPPLEMENTARY INFORMATION: This is a summary of the Commission's document, DA 04-3840, released December 7, 2004. To request materials in accessible formats for people with disabilities (Braille, large print, electronic files, audio format), send an e-mail to fcc504@fcc.gov or call the Consumer & Governmental Affairs Bureau at (202) 418-0530 (voice), (202) 418-0432 (TTY). This document can also be downloaded in Text and ASCII formats at: http://www.fcc.gov/cgb/policy/slamming.

Federal Communications Commission.
Jay Keithley,
Deputy Bureau Chief, Consumer & Governmental Affairs Bureau.

[FR Doc. 04-28421 Filed 12-28-04; 8:45 am]

BILLING CODE 6712-01-P